NUCLEAR REGULATORY COMMISSION

NRC Coordination Meeting With American Society for Quality Energy and Environmental Division Nuclear Power Production Committee

AGENCY: Nuclear Regulatory Commission.

ACTION: Notice of meeting.

SUMMARY: The NRC has been meeting annually with the ASQ EED NPPC Executive Board and interested members to discuss quality assurance matters of mutual interest. Following the meeting with NRC this year, the NPPC will take advantage of the meeting site to conduct a committee meeting and to work on two good practice papers. This notice provides the date and agenda for the next meeting.

DATES: July 20-21, 2000—The NRC part of the meeting will begin at 8 a.m. on 7/20 and will last until noon. Attendees should enter the One White Flint North lobby by 7:45 a.m. to complete the required badging process.

Location: U.S. Nuclear Regulatory Commission Headquarters, One White Flint North, 11555 Rockville Pike, Room O-4-B6, Rockville, Maryland 20852-2738.

Contact: Owen P. Gormley, USNRC, Telephone: (301) 415-6793; Fax: (301) 415-5074; Internet: opg@nrc.gov

Attendance: This meeting is open to the general public. All individuals planning to attend are requested to pre-register with Mr. Gormley by telephone or e-mail and provide their name, affiliation, phone number, and e-mail address.

Program: The purpose of the meeting is to continue the annual communication between NRC and quality assurance professionals, and to continue support to the NPPC as it prepares good practice papers pooling and sharing successful QA activities experienced by the various participants.

Among the topics to be discussed are:

QA for Probablistic Risk Analysis.

Approach to QA on digital I&C systems.

Presentation by BG&E on the NRC inspection of problem identification and resolution, using the new NRC Inspection Module, 71152.

Other activities will include:

A NPPC meeting covering general committee business.

Work on revisions to the good practices papers on performance indicators and self assessments.

Dated in Rockville, Maryland, this 13th day of July, 2000.
For the Nuclear Regulatory Commission.
Sher Bahadur,
Chief, Engineering Research Applications Branch, Division of Engineering Technology, Office of Nuclear Regulatory Research.

[FR Doc. 00-18235 Filed 7-18-00; 8:45 am]

BILLING CODE 7590-01-P